DEPARTMENT OF JUSTICE

Notice of Lodging of Proposed Consent Decree Under the Clean Water Act

On September 15, 2015, the Department of Justice lodged a proposed consent decree with the United States District Court for the District of Puerto Rico in the lawsuit entitled United States v. Puerto Rico Aqueduct and Sewer Authority and the Commonwealth of Puerto Rico, Civil Action No. 3:15-cv-02283.

The proposed consent decree resolves the United States' claims against the Puerto Rico Aqueduct and Sewer Authority (“PRASA”) and the Commonwealth of Puerto Rico under the Clean Water Act (CWA), 33 U.S.C. 1251, et seq., concerning CWA violations at PRASA's water treatment plants (WTPs), wastewater treatment plants (WWTPs), and pump stations. The Commonwealth, a signatory to the consent decree, is named as a defendant under Section 309(e) of the CWA, 33 U.S.C. 1319(e). The proposed consent decree provides for injunctive relief to be implemented by PRASA over the next 15 years at the WWTPs, WTPs, and pump stations at an estimated cost of $1.5 billion. PRASA is currently under three consent decrees with the United States to address CWA and Safe Drinking Water Act (“SDWA”) violations at its WWTPs, WTPs, and pump stations. The proposed consent decree sets forth a comprehensive agreement consolidating all the CWA requirements with the United States to date and supersedes the three prior consent decrees that addressed pump stations, WWTPs, and sludge treatment systems at WTPs.

The publication of this notice opens a period for public comment on the proposed consent decree. Comments should be addressed to the Assistant Attorney General, Environment and Natural Resources Division and should refer to United States v. Puerto Rico Aqueduct and Sewer Authority, and the Commonwealth of Puerto Rico, D.J. Ref. No. 90-5-1-1-08385/4. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ-ENRD, P.O. Box 7611, Washington, DC 20044-7611.

Please enclose a check or money order for $25.75 (25 cents per page reproduction cost) for a copy of the proposed consent decree (copies of the appendices attached to the consent decree are not included in this amount) payable to the United States Treasury.

Robert E. Maher Jr.,
Assistant Section Chief, Environmental Enforcement Section, Environment and Natural Resources Division.

[FR Doc. 2015-25602 Filed 10-7-15; 8:45 am]

BILLING CODE 4410-15-P